DEPARTMENT OF HOUSING AND URBAN DEVELOPMENT

[Docket No. FR-5843-N-04]

Implementation of the Privacy Act of 1974, as Amended; New System of Records, the Housing Search Process for Racial and Ethnic Minorities Evaluation Data Files

AGENCY: Office of the Chief Information Officer, HUD.

ACTION: New system of records.

SUMMARY: The Department's Office of Policy Development and Research (PD&R) is proposing to create a new system of records, the “Housing Search Process for Racial and Ethnic Minorities Evaluation Data Files.” The Department's Office of PD&R is responsible for maintaining current information on housing needs, market conditions and existing programs, as well as conducting research on priority housing and community development issues.

The principal purpose of the evaluation of the Housing Search Process for Racial and Ethnic Minorities is to: Help guide the Department's research toward a more comprehensive understanding of the rental housing search processes for individual households; Make informed decisions on the development of more effective enforcement strategies to combat discriminatory practices; Identify ways to expand housing opportunities for racial and ethnic minorities. Further, HUD's Office of Housing Counseling for rental housing assistance, and the Office of Housing Choice Vouchers, among others will leverage the outcome study results for policy development and best practices aimed to “build inclusive and sustainable communities free from discrimination”, and to identify and correct barriers that racial and ethnic minorities may experiences in the rental housing market. Finally, this study will allow the Department to leverage its own regular data collection efforts, like the American Housing Survey (AHS), to document the complexities of the housing search process at scale nationwide. A more detailed description of this system is contained in the “Purpose” caption of this system of records notice.

DATES: Effective Date: The notice will be effective May 4, 2015, unless comments are received that would result in a contrary determination.

Comments Due Date: May 4, 2015.

ADDRESSES: Interested persons are invited to submit comments regarding this notice to the Rules Docket Clerk, Office of the General Counsel, Department of Housing and Urban Development, 451 Seventh Street SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing- and speech-impaired persons (TTY) is available by calling the Federal Information Relay Service's toll-free telephone number (800) 877-8339.

SUPPLEMENTARY INFORMATION: This system of records will be operated by HUD's Office of PD&R and will include personally identifiable information (PII) of participants in the Housing Search Process for Racial and Ethnic Minorities that will be retrieved from the system by a name or unique identifier. The new system of records will encompass information on program and services administered by the Department. Publication of this notice allows the Department to satisfy its reporting requirement and keep an up-to-date accounting of its system of records publications. The new system of records will incorporate Federal privacy requirements and the Department's policy requirements. The Privacy Act provides individuals with certain safeguards against an invasion of personal privacy by requiring Federal agencies to protect records contained in an agency system of records from unauthorized disclosure, by ensuring that information is current and collected only for its intended use, and by providing adequate safeguards to prevent misuse of such information. Additionally, this notice demonstrates the Department's focus on industry best practices to protect the personal privacy of the individuals covered by this system of records notice.

This notice states the name and location of the record system, the authority for and manner of its operations, the categories of individuals that it covers, the type of records that it contains, the sources of the information for the records, the routine uses made of the records and the type of exemptions in place for the records. In addition, this notice includes the business addresses of Department officials' who will inform interested persons of the procedures whereby they may gain access to and/or request amendments to records pertaining to them.

This publication does meet the SORN threshold requirements pursuant to the Privacy Act and OMB Circular A-130, and a report was submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: March 27, 2015.
Rafael C. Diaz,
Chief Information Officer.

SYSTEM OF RECORDS NO.:

PD&R/RRE.04

SYSTEM NAME:

Housing Search Process for Racial and Ethnic Minorities Evaluation Data Files.

SYSTEM LOCATION:

The Department of Housing and Urban Development, 451 Seventh Street SW., Washington, DC 20140; The Urban Institute, 2100 M Street NW., Washington, DC 20037; The SSRS, 53 West Baltimore Pike Media, PA 19063.

CATEGORIES OF INDIVIDUALS COVERED BY THE SYSTEM:

The categories of individuals covered by the system will include records on participants in the Housing Search Process for Racial and Ethnic Minorities who have agreed to be part of the outcome study.

CATEGORIES OF RECORDS IN THE SYSTEM:

The categories of records in the system will include the participants name, home address, telephone number, and personal email address.

AUTHORITY FOR MAINTENANCE OF THE SYSTEM:

The authority for the collection of records, and the maintenance of this system is authorized by Sections 501-502 of the Housing and Urban Development Act of 1970 (Public Law 91-609), 12 U.S.C. 1701z-1, 1701z-2 and Title VIII of the Civil Rights Act of 1968, as amended by the Fair Housing Act of 1988 (42 U.S.C. 3601.)

PURPOSE(S):

The purpose of the evaluation of the Housing Search Process for Racial and Ethnic Minorities is to allow the Department to address Title VIII of the Civil Rights Act of 1968 (Fair Housing Act), which prohibits discrimination in the rental market based on race and/or ethnicity and charges HUD to study the nature and extent of these discriminations. It is suspected that the differences between the rental housing search process employed by racial and/or ethnic minorities and other populations may have significant consequences for the housing opportunities available to minority households and the strategies needed to combat racial and ethnic discrimination. HUD fulfills its obligations under this study by using multiple methods, including its flagship paired-testing studies to leverage search criteria gained from individuals during their rental housing search process. In the past, vigorous experiments have shown that people of different racial and/or ethnic groups are treated differently by landlords and real estate agents. This study will help the Department gain an understanding of the racial and ethnic differences experienced by individuals during the housing search process and will identify the important factors needed to address a common critique under the existing studies. National HUD-funded studies of housing discrimination routinely measure their results assuming a common search pattern defined by the testing protocols executed by both the minority and the nonminority testers. As a result, the Department is unable to understand whether these stages of the process capture the audit studies mapped to what people actually do when they search for rental housing. For example, in a housing search, an individual interacts with a landlord in the way that the audit studies capture. However, the interaction may not come about in the manner assumed by an audit study methodology (i.e. finding a listing on the internet or in the newspaper). The Department is also unaware of how the searcher decided to inquire about the unit, what factors shaped that decision, how the searcher interprets the interaction with the landlord, and how this interaction shapes the searcher's subsequent housing search decisions. In other words, though the Department may know a great deal about what happens in terms of race and ethnicity at the point of the interaction between a prospective tenant and landlord, it knows very little about what precedes or follows that interaction, and how these factors ultimately affect housing outcomes.

The research team plans to implement two original data collection activities designed specifically to begin fleshing out a more detailed conceptual framework for the housing search process by: (1) Exploring dimensions completely absent in existing survey data, (2) gathering information at different time points during active housing searches—a technique yet untested—and (3) engaging only respondents who are currently searching or have moved in the past two months to improve upon the often nebulous reporting windows of the existing survey data. For example, the AHS asks respondents to report on their search behavior and priorities up to 24 months after the search is complete. On the other hand, even though the Chicago Area Study (CAS), provides the most detailed information about search processes, it still asks respondents to recall searches happening as much as 10 years after the search.

There are two exploratory data collection activities:

1. The Housing Search Study (HSS) will consist of 525 half-hour, one-time phone cognitive testing interviews with diverse respondents who have moved into a rental property within the last two months. In addition, the HSS will follow 175 people actively engaged in a search for a rental property over a period of up to 28 days. The number of cognitive testing interviews for current searchers will depend on the status of each respondent's housing search. All respondents will participate in an initial interview at time 1 (to last 30 minutes) and will receive a follow-up call two weekends later at time 2 (to last 20 minutes). Only respondents who are still actively searching at time 2 will receive a follow-up call at time 3 (also to last 20 minutes). Cognitive tests with current searchers are designed to map the iterative and dynamic qualities of housing search.

2. In-depth interviews will consist of one-time, 1-hour long in-person conversations with 48 respondents identified through the first two original data collection efforts to explore the narratives surrounding the most salient racial/ethnic differences in the housing search process and outcomes that emerge from early analyses of data from the cognitive tests.

The goal of the original data collection activities is not to estimate the prevalence of racial and/or ethnic differences in the housing search, but rather to develop a nuanced understanding of the process and identify potential drivers of racial and/or ethnic differences in order to inform the design of future fair-housing testing methodologies for potential points of intervention for HUD programs. All original data collection activities will be conducted in the Washington DC metropolitan area. Those who agree to participate in the study will have an opportunity to receive up to 200 dollars, depending on their level of participation in the study. In-depth interview respondents will be recruited from those who participate in the shorter, earlier interviews. The research team will analyze existing datasets including the Panel Study of Income Dynamics (PSID), the AHS, and the CAS. This analysis will leverage these surveys' strong sampling design to provide estimates of prevalence as well as statistically valid tests of racial and/or ethnic differences in the population for the very limited number of housing search related variables.

PURPOSE OF THE DATA COLLECTION:

This submission requests approval for original data collection tasks 1 and 2—the HSS and the in-depth interviews will be merged with other planned analyses of secondary data to provide large-scale, nuanced information to address the task order research questions as articulated in the RFP:

• What are the primary ways that racial and ethnic minorities search for rental housing?

• To what extent are these patterns different from the housing search patterns of whites?

• What parts of these search patterns would be easy to document?

• What parts would be hard to document?

• What can be clearly demonstrated or inferred about the consequences of these differences for relative housing opportunities?

• What can be clearly demonstrated or inferred about the consequences of these differences about the ability to test for enforcement purposes?

• What can be clearly demonstrated or inferred about the consequences of these differences about appropriate educational programs?

• What are the most promising areas for further research, both on substantive importance grounds and feasibility of available research strategies?

ROUTINE USES OF RECORDS MAINTAINED IN THE SYSTEM, INCLUDING CATEGORIES OF USERS AND THE PURPOSES OF SUCH USES:

In addition to those disclosures generally permitted under 5 U.S.C. Section 552a(b) of the Privacy Act, all or a portion of the records or information contained in this system may be disclosed outside HUD as a routine use pursuant to 5 U.S.C. 552a(b)(3) as follows:

1. To Urban Institute staff to track study participants and locate participants for a future follow-up interview. Staff may also use the data files to match with other datasets for tracking purposes, such as change of address and credit bureau databases;

2. To appropriate agencies, entities, and persons to the extent that such disclosures are compatible with the purpose for which the records in this system were collected, as set forth by Appendix I ¹—HUD's Library of Routine Uses published in the Federal Register (July 17, 2012, at 77 FR 41996); and

¹ http://portal.hud.gov/hudportal/documents/huddoc?id=append1.pdf.

3. To appropriate agencies, entities, and persons when: a) HUD suspects or has confirmed that the security or confidentiality of information in a system of records has been compromised; b) HUD has determined that as a result of the suspected or confirmed compromise, there is a risk of harm to economic or property interests, identity theft or fraud, or harm to the security or integrity of systems or programs (whether maintained by HUD or another agency or entity) that rely upon the compromised information; and c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORING, RETRIEVING, ACCESSING, RETAINING, AND DISPOSING OF RECORDS IN THE SYSTEM:

STORAGE:

All data collected will be input and stored in a secure database. Hard-copy materials containing respondent identifying information will be locked up when not in use. PII will be accessible to the research team only at the Urban Institute and SSRS system locations. PII will be accessible by the Urban Institute and the file will not be shared or accessed by HUD. All hard-copy materials, including completed forms and electronic records on transportable media, will be kept in locked cabinets when not in use. In addition, data on transportable media will be encrypted. Records with PII will not be printed. Records and the file will be destroyed by the Urban Institute at the completion of the study.

RETRIEVABILITY:

Records within the contact database will be retrieved by name, home address, telephone number, and personal email address.

RETENTION AND DISPOSAL:

The retention and disposal procedures will be in keeping with HUD's records management statutory obligations as described in 44 U.S.C. 3101 and 3303. Records will be maintained for a period not to exceed five years. All PII associated with the project will be destroyed by Urban Institute and their subcontractors or otherwise rendered irrecoverable per NIST Special Publication 800-88 “Guidelines for Media Sanitization” (September 2006) at the end of the contract.

At the end of the contract, paper-based records that do not need to be retained will be shredded and the remainder of the files will be shredded after the three-year retention period required in the contract.

SAFEGUARDS:

Access to any server, security, storage, backup, and infrastructure equipment is monitored, restricted to only those with a need-to-have system access, including being secured by administrative password and authentication methods. All system users are required to sign a confidentiality pledge to abide by corporate policies and by HUD policies. There are no paper-based records associated with this study.

SYSTEM MANAGER(S) AND ADDRESS:

Carol Star, Director, Division of Program Evaluation, Office of Policy Development and Research, Department of Housing and Urban Development, 451 Seventh Street SW., Washington, DC 20410, Telephone Number (202) 402-6139.

NOTIFICATION AND RECORD ACCESS PROCEDURES:

For information, assistance, or inquiries about the existence of records, contact Donna Robinson-Staton, Chief Privacy Officer, U.S. Department of Housing and Urban Development, 451 Seventh Street SW., Room 4156, Washington, DC 20410 (Attention: Capitol View Building, 4th Floor), telephone number: (202) 402-8073. Verification of your identity must include original signature and be notarized. Written request must include the full name, Social Security Number, date of birth, current address, and telephone number of the individual making the request.

CONTESTING RECORD PROCEDURES:

The Department's rules for contesting contents of records and appealing initial denials appear in 24 CFR, Part 16. Additional assistance may be obtained by contacting: Donna Robinson-Staton, Chief Privacy Officer, U.S. Department of Housing and Urban Development, 451 Seventh Street SW., Washington, DC 20410 (Attention: Capitol View Building, 4th Floor), telephone number: (202) 402-8073; or the HUD Departmental Privacy Appeals Officers, Office of General Counsel, Department of Housing and Urban Development, 451 Seventh Street SW., Washington DC 20410.

RECORD SOURCE CATEGORIES:

The individual study participants in the surveys will be recruited through a variety of neighborhood-level organizations, requesting voluntary participation. The data will be gathered from and supplied by a limited number of in-depth interviews of some members of the testing group, and the study participants: including recent movers and current housing searchers in large scale cognitive testing.

The varied methods, designed to reach out to diverse populations, include:

• Media and advertising—A display of promotional posters about the study on buses in District of Columbia, flyers, emails, and Facebook posting.

• Online presence—Web page hosted for the study that explains its purpose, incentives, the organization implementing the study, and that provides instructions for participation.

• Community partnerships—A partnership to be establish with a variety of different private and nonprofit organizations, including rental assistance housing counseling agencies, community organizations, and businesses to help promote the study among their constituents.

• Snowball sampling—Referrals of respondents of cognitive testing who may be eligible.

SYSTEMS EXEMPTED FROM CERTAIN PROVISIONS OF THE ACT:

None.

[FR Doc. 2015-07610 Filed 4-1-15; 8:45 am]

BILLING CODE CODE 4210-67-P